NUCLEAR REGULATORY COMMISSION

[Docket No. 11005323; NRC-2018-0080]

Diversified Scientific Services, Inc.

AGENCY: Nuclear Regulatory Commission.

ACTION: Export license amendment and renewal application; opportunity to comment, request a hearing, and petition for leave to intervene.

SUMMARY: The U.S. Nuclear Regulatory Commission (NRC) is considering issuing an export license amendment and renewal of License No. XW008/05 requested by Diversified Scientific Services, Inc. (DSSI). On February 9, 2018, DSSI submitted a revised application with the NRC to amend and renew License No. XW008/04. The request seeks the NRC's approval for renewal and amendment of an existing license authorizing the export of radioactive waste to Canada. The NRC is providing notice of the opportunity to request a hearing on DSSI's revised application.

DATES: Submit comments by June 14, 2018. Requests for a hearing or a petition for leave to intervene must be filed by June 14, 2018.

ADDRESSES: You may submit comments by any of the following methods:

• Federal Rulemaking Website: Go to http://www.regulations.gov and search for Docket ID NRC-2018-0080. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Andrea R. Jones, Office of International Programs, U.S. Nuclear Regulatory Commission, Washington, DC 20555-0001; telephone: 301-287-9072, email: Andrea.Jones2@nrc.gov.

SUPPLEMENTARY INFORMATION:

I. Obtaining Information and Submitting Comments

A. Obtaining Information

Please refer to Docket ID NRC-2018-0080 when contacting the NRC about the availability of information for this action. You may obtain publicly-available information related to this action by any of the following methods:

• Federal Rulemaking Website: Go to http://www.regulations.gov and search for Docket NRC-2018-0080.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The DSSI export license amendment and renewal application is available in ADAMS under Accession No. ML18085A690.

• NRC's PDR: You may examine and purchase copies of public documents at the NRC's PDR, Room O1-F21, One White Flint North, 11555 Rockville Pike, Rockville, Maryland 20852.

B. Submitting Comments

Please include Docket ID NRC-2018-0080 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

In accordance with section 110.70(b) of title 10 of the Code of Federal Regulations (10 CFR), the NRC is noticing the receipt of an export license amendment and renewal application submitted by DSSI on February 9, 2018, for the export of Canadian-origin low-level radioactive waste from the State of Tennessee to Canada. The existing license authorizes the export of up to 378,000 kilograms of treated and processed low-level radioactive waste. The amendment and renewal requests: (1) An extension of the license from March 31, 2017 to March 31, 2022; (2) a change to the license point of contact; (3) a change in the name of one ultimate foreign consignee from Atomic Energy of Canada Limited to Canadian Nuclear Laboratories; (4) removal of the reference to Waste Classification as defined in 10 CFR 61.55 and reference to Table A2 values of 49 CFR 173.435 from the waste description, since 10 CFR 61.55 is not applicable because treated and processed waste are to be returned to Canada; (5) removal of previous references to Import License No. IW012/05; (6) updated of radioactivity levels; (7) inclusion of a port of exit in the State of New York and a port of exit in the State of Michigan. The NRC is noticing the request to amend and renew the license to export radioactive waste, open the opportunity for public comment, and open the opportunity to file a request for a hearing or petition for leave to intervene to June 14, 2018. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520. Hearing requests and intervention petitions must include the information specified in 10 CFR 110.82(b).

A request for a hearing or petition for leave to intervene may be filed with the NRC electronically in accordance with NRC's E-Filing rule promulgated in August 2007 (72 FR 49139; August 28, 2007). Information about filing electronically is available on the NRC's public website at http://www.nrc.gov/site-help/e-submittals.html. To ensure timely electronic filing, at least 5 days prior to the filing deadline, the petitioner/requestor should contact the Office of the Secretary by email at hearingdocket@nrc.gov or by calling 301-415-1677 to request a digital ID certificate and allow for the creation of an electronic docket.

The information concerning this application for an export license amendment and renewal follows:

NRC Export License Amendment and Renewal Application
[Description of Material]
Name of applicant, date of application, date received, Application No., Docket No., and ADAMS Accession No. | Material type | Total quantity | End use | Country of destination
Diversified Scientific Services, Inc. (DSSI) February 9, 2018. February 14, 2018. XW008/05. 11005323. ML18085A690. | Radioactive waste equivalent to Class A, B, and/or C, including oil, solvents, scintillation fluids, grease, paint chips, paint sludge, spent bead resins, powder resins, contaminated with activated carbon-14, hydrogen-3, and other mixed fission product radionuclides. The maximum activity level of all contaminants combined shall not exceed 75 Terrabecquerels (2,010 curies) per shipment | Authorization to export a total maximum quantity of 378,000 kilograms | Return of non-conforming waste and/or waste resulting from processing materials for appropriate disposition. The amendment and renewal requests: (1) An extension of the license from March 31, 2017 to March 31, 2022; (2) a change to the license point of contact; (3) a change in the name of one ultimate foreign consignee from Atomic Energy of Canada Limited to Canadian Nuclear Laboratories; 4) removal of the reference to Waste Classification as defined in 10 CFR 61.55 and reference to Table A2 values of 49 CFR 173.435 from the waste description since 10 CFR 61.55 is not applicable because treated and processed waste are to be returned to Canada; (5) removal of previous references to Import License IW012/05; (6) updated radioactivity levels; and (7) inclusion of a port of exit in the State of New York and a port of exit in State of Michigan | Canada.

Dated at Rockville, Maryland, this 9th day of May 2018.
For the Nuclear Regulatory Commission.
David L. Skeen,
Deputy Director, Office of International Programs.

[FR Doc. 2018-10247 Filed 5-14-18; 8:45 am]

BILLING CODE 7590-01-P